DEPARTMENT OF HEALTH AND HUMAN SERVICES

Centers for Disease Control and Prevention

Disease, Disability, and Injury Prevention and Control Special Emphasis Panel (SEP): Health Promotion and Disease Prevention Research Centers: FY08 Special Interest Project Competitive Supplements, Program Announcement Number (PA) DP 08-002

In accordance with Section 10(a)(2) of the Federal Advisory Committee Act (Pub. L. 92-463), the Centers for Disease Control and Prevention (CDC) announces the aforementioned meeting:

Time and Dates: 8 a.m.-5 p.m., July 9, 2008 (Closed).8 a.m.-5 p.m., July 10, 2008 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to “Health Promotion and Disease Prevention Research Centers: FY08 Special Interest Project Competitive Supplements, PA DP 08-002.”

Contact Person for More Information: K. Ann Berry, Senior Scientist, CDC, 1600 Clifton Road, NE., Mailstop E20, Atlanta, GA 30333, Telephone (404) 498-2503.

The Director, Management Analysis and Services Office, has been delegated the authority to sign Federal Register notices pertaining to announcements of meetings and other committee management activities, for both CDC and the Agency for Toxic Substances and Disease Registry.

Dated: June 16, 2008.
Elaine L. Baker,
Director, Management Analysis and Services Office,Centers for Disease Control and Prevention.

[FR Doc. E8-14082 Filed 6-20-08; 8:45 am]

BILLING CODE 4163-18-P